SECURITIES AND EXCHANGE COMMISSION

Sunshine Act Meeting

FEDERAL REGISTER CITATION OF PREVIOUS ANNOUNCEMENT: To be published Friday, September 28, 2001.

Status: Closed meetings.

PLACE: 450 Fifth Street, NW., Washington, DC

TIME AND DATE OF PREVIOUSLY ANNOUNCED MEETING: Tuesday, October 2, 2001 at 10:30 a.m. and Thursday, October 4, 2001 at 10:00 a.m.

CHANGE IN THE MEETING: Additional Items.

The following items have been added to the closed meeting scheduled for Tuesday, October 2, 2001 and Thursday, October 4, 2001: formal orders.

Commissioner Unger, as duty officer, determined that Commission business required the above change and that no earlier notice thereof was possible.

At times, changes in Commission priorities require alterations in the scheduling of meeting items. For further information and to ascertain what, if any, matters have been added, deleted or postponed, please contact:

The Office of the Secretary at (202) 942-7070.

Dated: September 26, 2001.
Margaret H. McFarland,
Deputy Secretary.

[FR Doc. 01-24563 Filed 9-27-01; 11:08 am]

BILLING CODE 8010-01-M